DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before July 19, 2010. Address written comments to Statutory Import Programs Staff, Room 3720, U.S. Department of Commerce, Washington, DC 20230. Applications may be examined between 8:30 a.m. and 5 p.m. at the U.S. Department of Commerce in Room 3720.

Docket Number: 10-015. Applicant: National Center for Toxicological Research, U.S. Food & Drug Administration, Department of Health and Human Services, 3900 NCTR Road, Jefferson, Arkansas 72079. Instrument: Electron Microscope. Manufacturer: JEOL, Ltd., Japan. Intended Use: The instrument will be used to identify and image nanoscale materials that are being tested at this FDA laboratory, and to detect these materials in biological samples including tissue culture and organs from animals. Justification for Duty-Free Entry: There are no instruments of the same general category being produced in the United States. Application accepted by Commissioner of Customs: June 16, 2010.

Docket Number: 10-023. Applicant: University of Virginia, P.O. Box 800886, 480 Ray C Hunt Drive, Charlottesville, VA 22903. Instrument: Electron Microscope. Manufacturer: FEI Company, the Netherlands. Intended Use: The instrument will be used to study proteins, macromolecular complexes, and viruses. The primary goal of the research is to obtain structural information for biological specimens at as high a resolution as possible. Justification for Duty-Free Entry: There are no instruments of the same general category being produced in the United States. Application accepted by Commissioner of Customs: June 15, 2010.

Docket Number: 10-029. Applicant: Argonne National Laboratory, 9700 South Cass Avenue, Lemont, IL 60439. Instrument: Electron Microscope. Manufacturer: JEOL, Ltd., Japan. Intended Use: This instrument will be used to characterize different types of nanosized materials. A key aspect of the research focuses on understanding different aspects of physical and chemical behavior of individual metallic, semiconducting and magnetic nanosized materials and their assembled structures. Justification for Duty-Free Entry: There are no instruments of the same general category being produced in the United States. Application accepted by Commissioner of Customs: June 11, 2010.

Docket Number: 10-030. Applicant: University of California, Davis, One Shields Ave., Davis, CA 95616. Instrument: Electron Microscope. Manufacturer: Elionix Co., Ltd., Japan. Intended Use: This instrument will be used to measure and quantify the structural integrity, geometry, chemical composition, and accuracy of nano machining tools and machined workpieces. The micro tools that will be observed are made of poly-crystalline diamond (PCD) or nano-crystalline diamond (NCD) and the grain structure before and after machining must be carefully observed with extremely high magnification. Justification for Duty-Free Entry: There are no instruments of the same general category being produced in the United States. Application accepted by Commissioner of Customs: June 11, 2010.

Docket Number: 10-031. Applicant: National Institutes of Health, 9000 Rockville Pike, Bethesda, MD 20892. Instrument: Electron Microscope. Manufacturer: JEOL, Ltd., Japan. Intended Use: This instrument will be used to study subcellular, supramolecular or macromolecular structures at a resolution approximately 1000-fold greater than that achieved with the light microscope. Justification for Duty-Free Entry: There are no instruments of the same general category being produced in the United States. Application accepted by Commissioner of Customs: June 10, 2010.

Docket Number: 10-032. Applicant: Battelle Memorial Institute, 3335 Q Avenue, Richland, WA 99354. Instrument: Electron Microscope. Manufacturer: FEI Company, the Netherlands. Intended Use: The instrument will be used to study both structural and chemical composition information at the atomic scale. Justification for Duty-Free Entry: There are no instruments of the same general category being produced in the United States. Application accepted by Commissioner of Customs: June 9, 2010.

Docket Number: 10-033. Applicant: Massachusetts General Hospital, 114 16th St., Charlestown, MA 02120. Instrument: Electron Microscope. Manufacturer: JEOL, Ltd., Japan. Intended Use: This instrument will be used for the study of materials such as cultured cells (Hela, n2a, clonal striatal cells, primary neurons), mouse brain, isolated autophagosomes from cultured cells, and exosomes from human brain. The goals are to understand how prenatal cocaine exposure alters dopamine receptor signaling and GABA neuron development in the mouse telencephalon. Justification for Duty-Free Entry: There are no instruments of the same general category being produced in the United States. Application accepted by Commissioner of Customs: June 9, 2010.

Docket Number: 10-035. Applicant: University of Maine System, 16 Central St., Bangor, ME 04401. Instrument: Electron Microscope. Manufacturer: Tescan, Czech Republic. Intended Use: This instrument will be used for the study of primarily geological (wet and dry sediment, rocks, fossils) but also some archaeological and biological materials. The objective is to obtain a better understanding of the mechanical and chemical structure of the Earth's crust, fluid flow in the crust, mechanisms for magma flow, and more. Justification for Duty-Free Entry: There are no instruments of the same general category being produced in the United States. Application accepted by Commissioner of Customs: June 9, 2010.

Docket Number: 10-036. Applicant: University of Kansas Medical Center, 3901 Rainbow Blvd., MSN 1039, Kansas City, KS 66160. Instrument: Electron Microscope. Manufacturer: JEOL, Ltd., Japan. Intended Use: This instrument will be used to study the morphology and ultrastructure of biological cells and tissues, and potentially infectious agents, such as bacteria and viruses. Most of the experiments will be carried out on biological material that has been chemically preserved so that its structure can be determined by transmission electron microscope at ultrahigh magnification to obtain the greatest detail and highest resolution achievable. Justification for Duty-Free Entry: There are no instruments of the same general category being produced in the United States. Application accepted by Commissioner of Customs: June 11, 2010.

Docket Number: 10-037. Applicant: University of South Dakota, 414 East Clark St., Vermillion, SD 57069. Instrument: Electron Microscope. Manufacturer: FEI Company, Czech Republic. Intended Use: This instrument will be used to study inorganic nanostructured materials. The objective is to record data on the morphology of the nanostructured materials. The transmission electron microscope is essential to researchers' understanding of how the concentration and identity of capping ligands affect the size and morphology of the nanoparticles. Justification for Duty-Free Entry: There are no instruments of the same general category being produced in the United States. Application accepted by Commissioner of Customs: June 15, 2010.

Docket Number: 10-039. Applicant: Northwestern University, 2205 Tech Drive, Hogan 2-100, Evanston, IL 60201. Instrument: Electron Microscope. Manufacturer: JEOL, Ltd., Japan. Intended Use: This instrument will be used to study the structure of biological macromolecules, and to aid the development of novel methods that will facilitate the study of biological materials by electron microscopy. The objective is to visualize the 3-dimensional structure of biological macromolecular assemblies. Justification for Duty-Free Entry: There are no instruments of the same general category being produced in the United States. Application accepted by Commissioner of Customs: June 15, 2010.

Docket Number: 10-040. Applicant: Illinois State University, School of Biological Sciences, Loading Dock, Science Lab Building, 125 South Fell Avenue, Normal, IL 61790-4120. Instrument: Electron Microscope. Manufacturer: FEI Company, Czech Republic. Intended Use: This instrument will be used to study the structure of plants, algae, fruit flies, bacterial biofilms, and host/bacterium interaction. The objective is to determine whether antibiotics are effective in changing the structure of biofilms, including structure of tiny channels through which fluid and nutrients reach innermost cells of the biofilm. Justification for Duty-Free Entry: There are no instruments of the same general category being produced in the United States. Application accepted by Commissioner of Customs: June 14, 2010.

Docket Number: 10-041. Applicant: Temple University, 1901 N. 13th Street, Department of Chemistry, Philadelphia, PA 19122. Instrument: Electron Microscope. Manufacturer: JEOL, Ltd., Japan. Intended Use: This instrument will be used in materials research and biological fields to examine the structure and properties of these materials under high resolution. Examples of research activities include the study of phase transformation of nanoparticulates in soil and aquatic systems; nanostructures that make up polymer electrolyte membrane (PEM) fuel cells; functionalized nanoparticles for optical applications; and more. Justification for Duty-Free Entry: There are no instruments of the same general category being produced in the United States. Application accepted by Commissioner of Customs: June 15, 2010.

Docket Number: 10-042. Applicant: University of Arkansas for Medical Sciences, 4301 W. Markham, Slot 505, Little Rock, AR 72205. Instrument: Electron Microscope. Manufacturer: FEI, the Netherlands. Intended Use: This instrument will be used for research concerning cellular organelles and protein complexes. The objective is to extend the level of resolution in research from the 200 nm level of light microscopy to the 1 nm or better level of electron microscopy. This will help researchers understand how cellular receptors function, how a specific cellular organelle, the Golgi apparatus, functions, and how protein complex involved in viral replication functions. Justification for Duty-Free Entry: There are no instruments of the same general category being produced in the United States. Application accepted by Commissioner of Customs: June 16, 2010.

Dated: June 23, 2010.
Christopher Cassel,
Director, IA Subsidies Enforcement Office.

[FR Doc. 2010-15764 Filed 6-28-10; 8:45 am]

BILLING CODE 3510-DS-P